FEDERAL EMERGENCY MANAGEMENT AGENCY

[FEMA-3154-EM]

New Mexico; Amendment No. 8 to Notice of an Emergency Declaration

AGENCY: Federal Emergency Management Agency (FEMA).

ACTION: Notice.

SUMMARY: This notice amends the notice of an emergency declaration for the State of New Mexico (FEMA-3154-EM), dated May 10, 2000, and related determinations.

EFFECTIVE DATE: July 13, 2000.

FOR FURTHER INFORMATION CONTACT: Madge Dale, Readiness, Response and Recovery Directorate, Federal Emergency Management Agency, Washington, DC 20472, (202) 646-2705 or madge.dale@fema.gov.

SUPPLEMENTARY INFORMATION: Notice is hereby given that certain cost share provisions for assistance provided under the emergency declaration were waived in accordance with section 104(k) of the Cerro Grande Fire Assistance Act, Pub. L. 106-246, 114 Stat. 589 (2000). The waiver applies to projects undertaken in response to the Cerro Grande Fire. The Federal share of eligible costs incurred in direct response to the Cerro Grande Fire will be 100 percent for the following affected areas:

Los Alamos, Rio Arriba, Sandoval, and Santa Fe Counties.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Joe M. Allbaugh,
Director.

[FR Doc. 02-10215 Filed 4-24-02; 8:45 am]

BILLING CODE 6718-02-P